DEPARTMENT OF ENERGY

Federal Energy Regulatory Commission

Sunshine Act Meeting Notice

December 13, 2007.

The following notice of meeting is published pursuant to section 3(a) of the government in the Sunshine Act (Pub. L. No. 94-409), 5 U.S.C. 552b:

Agency Holding Meeting: Federal Energy Regulatory Commission.

Date and Time: December 20, 2007. 10 a.m.

Place: Room 2C, 888 First Street, NE., Washington, DC 20426.

Status: Open.

Matters To Be Considered: Agenda. * NOTE—Items listed on the agenda may be deleted without further notice.

FOR FURTHER INFORMATION CONTACT: Kimberly D. Bose, Secretary, Telephone (202) 502-8400.

For a recorded message listing items struck from or added to the meeting, call (202) 502-8627.

This is a list of matters to be considered by the Commission. It does not include a listing of all documents relevant to the items on the agenda. All public documents, however, may be viewed on-line at the Commission's Web site at http://www.ferc.gov using the eLibrary link, or may be examined in the Commission's Public Reference Room.

927th—Meeting; Regular Meeting
[December 20, 2007, 10 a.m.]
Item No. | Docket No. | Company
ADMINISTRATIVE
A-1 | AD02-1-000 | Agency Administrative Matters.
A-2 | AD02-7-000 | Customer Matters, Reliability, Security and Market Operations.
A-3 | AD06-3-000 | Energy Market Update.
ELECTRIC
E-1 | RM05-17-001 | Preventing Undue Discrimination and Preference in Transmission Service.
| RM05-17-002
| RM05-25-001
| RM05-25-002
E-2 | OMITTED
E-3 | RM07-3-000 | Facilities Design, Connections and Maintenance Reliability Standards.
E-4 | RC07-4-000 | Direct Energy Services, LLC.
| RC07-6-000 | Sempra Energy Solutions LLC.
| RC07-7-000 | Strategic Energy, L.L.C.
E-5 | ER07-1415-000 | Xcel Energy Services, Inc.
E-6 | RM01-8-007 | Revised Public Utility Filing Requirements for Electric Quarterly Reports.
E-7 | ER08-91-000 | Mississippi Power Company.
E-8 | ER07-1402-000 | Allegheny Generating Company.
| ER07-1402-001
E-9 | OMITTED
E-10 | ER08-109-000 | Midwest Independent Transmission System Operator, Inc.
E-11 | ER08-140-000 | California Independent System Operator Corporation.
E-12 | ER07-882-000 | PacifiCorp.
| EL07-84-000
| ER07-1392-000
| ER08-143-000
| ER07-967-000 | Pacific Gas and Electric Company.
| ER08-255-000
| ER07-1213-000
| ER07-1373-000 | California Independent System Operator Corporation.
E-13 | OMITTED
E-14 | ER96-2585-006 ER98-6-011. ER99-2387-004. ER02-1470-004. | Niagara Mohawk Power Corporation, New England Power Company, KeySpan-Ravenswood, Inc., KeySpan-Glenwood Energy Center, LLC, KeySpan-Port Jefferson Energy Center, LLC, Granite State Electric Company, Massachusetts Electric Company and Narragansett Electric Company.
| ER02-1573-004
| ER05-1249-004
E-15 | ER06-615-003 | California Independent System Operator Corporation.
| ER06-615-005
| ER06-615-012
| ER07-1257-000
| ER02-1656-017
| ER02-1656-018
| EL05-146-000 | Independent Energy Producers Association v. California Independent System Operator Corporation.
E-16 | OMITTED
E-17 | OMITTED
E-18 | EL07-97-000 | Chugach Electric Association, Inc.
| QF99-95-002 | Tiqun Energy, Inc.
| QF07-129-001
| EL07-105-000 | Matanuska Electric Association.
| QF07-129-002
E-19 | OMITTED
E-20 | EL05-146-004 | Independent Energy Producers Association v. California Independent System Operator Corporation.
E-21 | OMITTED
E-22 | ER96-1085-010 | South Carolina Electric & Gas Company.
| EL05-122-000.
E-23 | ER08-56-000 | Avista Corporation.
| ER08-66-000 | NorthWestern Corporation.
MISCELLANEOUS
M-1 | RM08-5-000 | Revisions to Forms, Statements and Reporting Requirements for Electric Utilities and Licensees.
M-2 | RM96-1-028 RM05-5-004. | Standards for Business Practices for Interstate Natural Gas Pipelines; Standards for Business Practices for Public Utilities.
GAS
G-1 | RM07-10-000 | Transparency Provisions of Section 23 of the Natural Gas Act.
G-2 | RM08-2-000 | Pipeline Posting Requirements under Section 23 of the Natural Gas Act.
G-3 | IN06-3-003 | Energy Transfer Partners, L.P.; Energy Transfer Company, ETC Marketing Ltd., Houston Pipeline Company, Oasis Pipeline, L.P., Oasis Pipeline Company Texas, L.P. and ETC Texas Pipeline Ltd., Oasis Division.
G-4 | RP07-511-000 | El Paso Natural Gas Company.
G-5 | OMITTED
G-6 | OMITTED
G-7 | RP05-422-009 | El Paso Natural Gas Company.
| RP05-422-014
| RP05-422-015
| RP05-422-017
G-8 | RP04-249-006 | AES Ocean Express LLC v. Florida Gas Transmission Company.
| CP05-388-002
| CP06-1-003 | Southern Natural Gas Company.
| CP06-1-005 | Florida Gas Transmission Company.
| CP06-1-007
| CP06-1-008
G-9 | RP01-245-016 | Transcontinental Gas Pipe Line Corporation.
G-10 | OR07-21-000 | Mobil Pipe Line Company.
HYDRO
H-1 | P-12751-000 | Finavera Renewables Ocean Energy, Ltd.
H-2 | P-2157-000 | Public Utility District No. 1 of Snohomish County, Washington and the City of Everett, Washington.
H-3 | P-2197-079 | Alcoa Power Generating Inc.
H-4 | P-2277-005 | AmerenUE.
H-5 | HB131-04-1-001 | Bangor Hydro-Electric Company.
CERTIFICATES
C-1 | CP07-406-000 | Monroe Gas Storage Company, LLC.
| CP07-407-000
| CP07-408-000
C-2 | CP02-25-001 | Copiah Storage, LLC.
C-3 | OMITTED
C-4 | OMITTED
C-5 | CP07-128-000 | Cheyenne Plains Gas Pipeline Company, LLC.

A free webcast of this event is available through http://www.ferc.gov. Anyone with Internet access who desires to view this event can do so by navigating to http://www.ferc.gov's Calendar of Events and locating this event in the Calendar. The event will contain a link to its webcast. The Capitol Connection provides technical support for the free webcasts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

Kimberly D. Bose,
Secretary.

[FR Doc. E7-24562 Filed 12-17-07; 8:45 am]

BILLING CODE 6717-01-P